DEPARTMENT OF COMMERCE

National Oceanic and Atmospheric Administration

[I.D. 090503A]

Endangered Species; File No. 1429

AGENCY: National Marine Fisheries Service (NMFS), National Oceanic and Atmospheric Administration (NOAA), Commerce

ACTION: Receipt of application for modification

SUMMARY: Notice is hereby given that the Southeast Fisheries Science Center, National Marine Fisheries Service, 75 Virginia Beach, Miami, FL 33149, has requested a modification to scientific research Permit No. 1429.

DATES: Written or telefaxed comments must be received on or before October 14, 2003.

ADDRESSES: The modification request and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)713-0376, provided the facsimile is confirmed by hard copy submitted by mail and postmarked no later than the closing date of the comment period. Please note that comments will not be accepted by e-mail or other electronic media.

FOR FURTHER INFORMATION CONTACT: Patrick Opay, (301)713-1401 or Carrie Hubard, (301)713-2289.

SUPPLEMENTARY INFORMATION: The subject modification to Permit No. 1429, issued on June 26, 2003 (68 FR 38011) is requested under the authority of the Endangered Species Act of 1973, as amended (16 U.S.C. 1531 et seq.) and the regulations governing the taking, importing, and exporting of endangered and threatened species (50 CFR 222-226).

Permit No. 1429 authorizes the permit holder to take loggerhead (Caretta caretta), leatherback (Dermochelys coriacea), green (Chelonia mydas), hawksbill (Eretmochelys imbricata), olive ridley (Lepidochelys olivacea), and Kemp's ridley (Lepidochelys kempii) sea turtles to conduct sea turtle bycatch reduction research in the pelagic longline fishery of the western north Atlantic Ocean. Captured turtles are measured, flipper and passive integrated transponder (PIT) tagged, photographed and tissue sampled. Forty-five loggerheads are also being outfitted with a conventional satellite or a pop-up archival transmitting tag using the lanyard attachment method. The permit holder requests authorization to attach conventional satellite or pop-up archival transmitting tags to 15 leatherback sea turtles. The permit holder will use a hoist to bring the turtles on deck. The tags would be attached to the peduncle of each animal by lanyard and would provide information on the movements and post hooking survival of this species. This permit modification will be valid through the date of expiration of the permit on December 31, 2003.

Dated: September 5, 2003.
Carrie W. Hubard,
Acting Chief, Permits, Conservation and Education Division, Office of Protected Resources, National Marine Fisheries Service.

[FR Doc. 03-23202 Filed 9-11-03; 8:45 am]

BILLING CODE 3510-22-S